DEPARTMENT OF EDUCATION

Office of Special Education Programs, Office of Special Education and Rehabilitative Services, Department of Education; Notice of Final Extension of Project Period and Waiver for the National Secondary Transition Technical Assistance Center (CFDA No. 84.326J)

SUMMARY: The Secretary issues this notice to waive the requirements in the Education Department General Administrative Regulations, in 34 CFR 75.250 and 75.261(a) and (c), respectively, that generally prohibit project periods exceeding five years and extensions of project periods involving the obligation of additional Federal funds. The extension of project period and waiver enable the currently funded National Secondary Transition Technical Assistance Center to receive funding from December 31, 2010 through December 31, 2011.

DATES: The extension of project period and waiver are effective October 14, 2010.

FOR FURTHER INFORMATION CONTACT: Michael Slade, U.S. Department of Education, 550 12th St., SW., room 4083, Potomac Center Plaza, Washington, DC 20202-2641. Telephone: (202) 245-7527.

If you use a telecommunications device for the deaf (TDD), call the Federal Relay Service (FRS), toll-free, at 1-800-877-8339.

SUPPLEMENTARY INFORMATION: The Department published a notice in the Federal Register (75 FR 44233) on July 28, 2010, proposing an extension of project period and a waiver in order to—

(1) Enable the Secretary to provide additional funds to the currently funded National Secondary Transition Technical Assistance Center for an additional 12-month period, from December 31, 2010 through December 31, 2011; and

(2) Request comments on the proposed extension of project period and waiver.

There are no substantive differences between the notice of proposed extension of project period and waiver and this notice of final extension of project period and waiver.

Public Comment

We invited comments on the proposed extension of project period and waiver in the notice of proposed extension of project period and waiver. Five parties submitted comments in agreement with the proposal to extend the grant period of the current grantee. We did not receive any comments opposing the proposed extension of project period and waiver. Generally, we do not address technical and other minor changes, as well as suggested changes the law does not authorize us to make. Moreover, we do not address comments that do not express views on the substance of the notice of proposed extension of project period and waiver.

Background

On March 8, 2005, the Department published a notice in the Federal Register (70 FR 11214), inviting applications for new awards for fiscal year (FY) 2005 under the Technical Assistance and Dissemination to Improve Services and Results for Children with Disabilities (TA&D) program, authorized under section 663 of the Individuals with Disabilities Education Act (IDEA), to support a Secondary Transition Technical Assistance Center. Based on that notice, the Department made one award for a period of 60 months to the University of North Carolina at Charlotte to carry out the National Secondary Transition Technical Assistance Center (NSTTAC).

Currently, the Office of Special Education Programs (OSEP) funds NSTTAC to support the improvement of transition planning, services, and outcomes for youth with disabilities by disseminating information and providing technical assistance (TA) on evidence-based practices with an emphasis on building and sustaining State-level infrastructures of support and building district-level demonstrations of effective transition methods. NSTTAC has demonstrated significant progress in disseminating information on evidence-based practices and providing TA to States and local educational agencies (LEAs) to advance implementation of effective transition planning and services.

NSTTAC's current project period is scheduled to end on December 31, 2010. We do not believe it would be in the public interest to hold new competitions under the TA&D program until the Department has considered changes being made to the Elementary and Secondary Education Act of 1965, as amended (ESEA), during the process of reauthorizing that law and the Department has developed a coordinated strategy for the provision of technical assistance that is designed to help States, LEAs, and schools effectively implement key provisions of the ESEA and IDEA and improve educational results for all students. We also have concluded that it would be contrary to the public interest to have a lapse in the provision of technical assistance provided under the TA&D program pending the reauthorization of the ESEA. For these reasons, the Secretary waives the requirements in 34 CFR 75.250, which prohibit project periods exceeding five years, and the requirements in 34 CFR 75.261(a) and (c), which limit the extension of a project period if the extension involves the obligation of additional Federal funds, and issues a continuation award in the amount of $1,100,000 to the University of North Carolina at Charlotte (H326J050004) for an additional twelve-month period.

Waiving these regulations and issuing this continuation award ensure that continued technical assistance is available to assist States and LEAs with effective transition planning and services, as the Department works on reauthorization of the ESEA and designs TA&D competitions that are coordinated and aligned with the Department's technical assistance priorities.

During the next fiscal year, NSTTAC will continue, update, and expand its work to (1) Identify evidence-based practices that provide a foundation for States to improve transition planning and services that enhance post-school outcomes; (2) disseminate information to State personnel, practitioners, researchers, parents, and students regarding effective transition planning and services that improve post-school outcomes; (3) build the capacity of States and LEAs to implement effective transition planning and services that improve post-school outcomes; and (4) assist State educational agencies with collecting data on IDEA Part B State Performance Plan/Annual Performance Report Indicator 13, which assesses States' implementation of comprehensive transition planning and services, and using these data to guide improvement activities.

Regulatory Flexibility Act Certification

The Secretary certifies that the extension of project period and waiver do not have a significant economic impact on a substantial number of small entities. The only entity affected is NSTTAC.

Paperwork Reduction Act of 1995

The extension of project period and waiver do not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: September 7, 2010.
Alexa Posny,
Assistant Secretary for Special Education and Rehabilitative Services.

[FR Doc. 2010-22903 Filed 9-13-10; 8:45 am]

BILLING CODE 4000-01-P